FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel-Operating Common Carrier Ocean Transportation Intermediary Applicants

Zenus (USA) Logistics LLC., 231 Blossom Lane, West Palm Beach, FL 33404. Officer: Warren Jeffery, Managing Member (Qualifying Individual).

Non-Vessel-Operating Common Carrier and Ocean Freight Forwarder Transportation Intermediary Applicants

Gamma International Logistics, Inc., dba Liberty LCL Line, 9700 NW 17th Street, Miami, FL 33126. Officers: Daniel Brian Savage, President (Qualifying Individual). Darryl Von Geusau, Director.

Fast Logistics, Inc., 3350 SW 3rd Avenue, Suite 207, Fort Lauderdale, FL 33315. Officers: Luis Ceballos, President. Jose L. Ceballos, Manager (Qualifying Individuals).

Talus Logistics LLC., 13101 North Enon Church Road, Chester, VA 23836. Officers: Glenn R. Clark, V. P. Sales & Operations (Qualifying Individual). David J. Adams, Chairman.

Ocean Freight Forwarder-Ocean Transportation Intermediary Applicants

Far International Corp., 10450 NW 41 Street, Miami, FL 33178. Officers: Maria Estela Roa, President (Qualifying Individual). Joaquin Roa, Vice President.

Grove Shipping, 2102 Harrison Avenue, Bronx, NY 10453. Whitfield Nicholas, Sole Proprietor.

Nick's International Shipping, Inc., 1841 Carter Avenue, Bronx, NY 10457. Officer: Olimpia Sandoval, President (Qualifying Individual).

Worldwide Freight Logistics, Inc., 8562 NW. 70th Street, Miami, FL 33166. Officers: Heriberto Sanchez, President (Qualifying Individual). Roxana Sanchez, Secretary.

Dated: October 27, 2006.
Bryant L. VanBrakle,
Secretary.

[FR Doc. E6-18388 Filed 10-31-06; 8:45 am]

BILLING CODE 6730-01-P